FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 9, 2012.

A. Federal Reserve Bank of Chicago (Colette A. Fried, Assistant Vice President) 230 South LaSalle Street, Chicago, Illinois 60690-1414:

1. Steven D. Spector, Glenview, Illinois, as an individual and as trustee of the Alan L. Spector GST Family Trust, the Walter W. Spector, Steven D. Spector, Andrew M. Spector, and Nancy S. Spector Dynasty Trusts, and two Phillip J. Spector GST Trusts and as a group acting in concert with Steven D. Spector, Walter W. Spector Saratoga, California, Andrew M. Spector, Bexley, Ohio, Nancy S. Spector, Chicago, Illinois, the Phillip J. Spector GST Trust—FBO Michael Spector, Michael Spector, Bettendorf, Iowa, and Steven Spector trustees, the Phillip J. Spector GST Trust—FBO Shelley Caesar, Shelley Caesar Fox River Grove, Illinois, and Steven D. Spector trustees, and the Alan L. Spector GST Family Trust, the Walter W. Spector Dynasty Trust, the Steven D. Spector Dynasty Trust, the Andrew M. Spector Dynasty Trust, the Nancy S. Spector Dynasty Trust (Steven D. Spector trustee) to acquire additional shares of Spector Properties, Inc., Chicago, Illinois and thereby indirectly acquire/retain control of Andalusia Community Bank, Andalusia, Illinois.

2. Winifred J. Marquart, Herbert F. Johnson III, Samuel C. Johnson III, Odinn R. Johnson, Olivia S. Johnson, Conrad W. Leipold, Samuel C. Leipold, Michael D. Marquart, Samantha G. Marquart, and Isabelle C. Marquart, as trustee or shareholder for various Johnson family trusts and companies all of Racine, Wisconsin, as a group acting in concert to retain control of Johnson Financial Group, Inc., Racine, Wisconsin, and thereby indirectly control Johnson Bank, Racine, Wisconsin.

Board of Governors of the Federal Reserve System, March 20, 2012.
Jennifer J. Johnson,
Secretary of the Board.

[FR Doc. 2012-7114 Filed 3-23-12; 8:45 am]

BILLING CODE 6210-01-P